DEPARTMENT OF TRANSPORTATION

National Highway Traffic Safety Administration

[Docket No. NHTSA-2013-0144; Notice 2]

Ford Motor Company, Grant of Petition for Decision of Inconsequential Noncompliance

AGENCY: National Highway Traffic Safety Administration (NHTSA), Department of Transportation (DOT).

ACTION: Grant of petition.

SUMMARY: Ford Motor Company, (Ford) has determined that certain model year (MY) 2014 Ford Focus passenger cars do not fully comply with paragraph S3.1.4.1(a) of Federal Motor Vehicle Safety Standard (FMVSS) No. 102, Transmission Shift Position Sequence, Starter Interlock, and Transmission Braking Effect. Ford has filed an appropriate report dated November 25, 2013 pursuant to 49 CFR part 573, Defect and Noncompliance Responsibility and Reports.

ADDRESSES: For further information on this decision contact Amina Fisher, Office of Vehicle Safety Compliance, National Highway Traffic Safety Administration (NHTSA), telephone (202) 366-5307, facsimile (202) 366-5930.

SUPPLEMENTARY INFORMATION: I. Ford's Petition: Pursuant to 49 U.S.C. 30118(d) and 30120(h) (see implementing rule at 49 CFR part 556), Ford submitted a petition for an exemption from the notification and remedy requirements of 49 U.S.C. Chapter 301 on the basis that this noncompliance is inconsequential to motor vehicle safety.

Notice of receipt of Ford's petition was published, with a 30-Day public comment period, on June 19, 2014 in the Federal Register (79 FR 35226). No comments were received. To view the petition and all supporting documents log onto the Federal Docket Management System (FDMS) Web site at: http://www.regulations.gov/. Then follow the online search instructions to locate docket number “NHTSA-2013-0144.”

II. Vehicles Involved: Affected are approximately 43,699 MY 2014 Ford Focus passenger cars manufactured from August 2, 2013 through September 27, 2013, at Ford's Michigan Assembly Plant in Wayne, Michigan.

III. Noncompliance: Ford explains that the noncompliance is that the subject vehicles do not fully meet the requirements of paragraph S3.1.4.1(a) of FMVSS No. 102 because after a vehicle's ignition has been switched on, the transmission shift position indicator (PRNDx) does not display transmission shift position sequence and position, i.e., Park, until after the shifter release button is depressed under certain non-typical conditions.

IV. Rule Text: Paragraph S3.1.4.1 of FMVSS No. 102 requires in pertinent part:

S3.1.4.1 Except as specified in S3.1.4.3, if the transmission shift position sequence includes a park position, identification of shift positions, including the positions in relation to each other and the position selected, shall be displayed in view of the driver whenever any of the following exist:

(a) The ignition is in a position where the transmission can be shifted; or . . .

V. Summary of Ford's Analyses

Ford explained that this condition can only occur after a non-typical key-on sequence and only when the transmission is in park, and believes that this condition does not present a risk to motor vehicle safety. The following two examples were presented:

Example 1: After the cluster enters sleep mode, if an operator, without first opening the door, inserts a key and turns on the ignition from outside the vehicle (e.g., through an open window) and later enters the vehicle, the PRNDx will not be illuminated until the shift lever button is depressed.

Example 2: After shutting down a vehicle with the transmission in Park, the driver remains in the vehicle for approximately 10 minutes with the key out of the ignition, and does not contact the brake pedal or open a door, the cluster will go into sleep mode. If the driver then starts the engine in 0.7 seconds or less of performing an action that causes the cluster to wake-up (e.g., touching the brake pedal) the PRNDx will not be illuminated until the shift lever button is depressed.

Ford said that as soon as the transmission shift lever release button is depressed (required for shifting to any non-park position) the PRNDx will illuminate, allowing the customer to select the desired gear.

Ford also mentioned that under normal usage the PRNDx illuminates as intended. As an example, Ford explained that when the driver or passenger opens a door and enters the car, the cluster will wake-up from sleep mode and the subject condition will not occur.

Furthermore, Ford explained that if the vehicle is left in any gear other than park, the cluster will not go into sleep mode, this subject noncompliant condition will not occur, and the PRNDx will illuminate as intended.

Lastly, Ford stated that no other Ford vehicles are affected by this condition and Ford is not aware of any owner complaints, accidents or injuries related to this condition.

Ford has additionally informed NHTSA that it has corrected the noncompliance so that all future production vehicles will comply with FMVSS No. 102.

In summation, Ford believes that the described noncompliance of the subject vehicles is inconsequential to motor vehicle safety, and that its petition, to exempt Ford from providing recall notification of noncompliance as required by 49 U.S.C. 30118 and remedying the recall noncompliance as required by 49 U.S.C. 30120 should be granted.

NHTSA Decision

NHTSA Analysis: NHTSA has reviewed Ford's justification for an inconsequential noncompliance determination and agree that the subject noncompliance is inconsequential to motor vehicle safety.

Ford stated that the subject condition can only occur after certain non-typical key-on sequences and only when the transmission is in park, thus not presenting a risk to motor vehicle safety. Ford provided two example scenarios that can lead to the subject noncompliance. In both scenarios the instrument cluster electronics defaults to a sleep mode after a short period of inactivity (requires approximately 10 minutes of inactivity). Under the first scenario, while in the sleep mode, if the vehicle operator inserts the ignition key and activates the ignition through an open window, without first opening the door, and later enters the vehicle through the door, the PRNDx will not be illuminated until the shift lever button is depressed. In the second scenario, after driving, stopping, shifting the vehicle to park, shutting the engine off and removing the ignition key, if the driver remains in the vehicle for approximately 10 minutes without contacting the brake pedal or opening a door, the instrument cluster will go into sleep mode. If the driver then starts the engine in 0.7 seconds or less of performing an action that causes the cluster to wake-up (e.g., touching the brake pedal) the PRNDx will not be illuminated until the shift lever button is depressed.

Upon consideration of these two scenarios, the Agency believes either could occur, although very infrequently. If either situation did happen to occur, the transmission would be in the park position and any further action by the operator to leave the vehicle or shift the vehicle out of the park position, in preparation to drive away, would resolve the PRNDx illumination condition. The noncompliant situations could only exist for short periods of time while the transmission is in the park position and only until the driver takes further action (i.e., leaves the vehicle, depresses the brake pedal, or activates the shift lever button to shift the vehicle from park). Under these rare situations there appears to be very little risk to motor vehicle safety.

Ford explained that as soon as the transmission shift lever release button is depressed, which is required prior to shifting to any non-park position, the PRNDx will illuminate allowing the driver to see and select the desired gear. NHTSA recognizes that if the driver did find themselves in the subject noncompliant condition and attempted a gear change they would have to depress both the brake pedal and the shift lever release button located on the shift lever. Current vehicle designs are required to have a brake transmission shift interlock that forces the driver to depress the brake pedal before the transmission can be shifted from the park position. Either application of the brake pedal or activation of the shift lever release, whichever occurs first, will wake the vehicle dashboard cluster electronics causing the PRNDx to illuminate. The driver is then able to clearly see and select the desired transmission gear position.

Ford stated that the PRNDx illuminates as intended under normal vehicle use and explained that when a driver or passenger door is opened the instrument cluster electronics will wake-up from the sleep mode subsequently meeting the illumination requirements of the safety standard. NHTSA agrees that it is normal behavior for a driver (or passenger) to first open a door to enter the vehicle before starting the engine. It is also normal behavior after entering a vehicle for the driver to depress the brake pedal and activate the transmission shift release button in order to shift out of the park position. The subject noncompliance could only occur in very rare situations, and only when the vehicle is in the park transmission position, thus not presenting a risk to motor vehicle safety.

Ford lastly stated that if the vehicle is left in any transmission gear other than park, the cluster will not go into sleep mode, the subject condition will not occur, and the PRNDx will illuminate as intended. The Agency understand that if a driver does turn the vehicle off when the transmission is in a gear other than park the instrument cluster electronics will not be allowed to go into a sleep mode and the PRNDx illumination will perform as required by the Standard.

NHTSA Decision: In consideration of the foregoing, NHTSA has decided that Ford has met its burden of persuasion that the FMVSS No. 102 noncompliance is inconsequential to motor vehicle safety. Accordingly, Ford's petition is hereby granted and Ford is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Ford no longer controlled at the time it determined that the noncompliance existed. However, the granting of this petition does not relieve Ford distributors and dealers of the prohibitions on the sale, offer for sale, or introduction or delivery for introduction into interstate commerce of the noncompliant vehicles under their control after Ford notified them that the subject noncompliance existed.

Authority: 49 U.S.C. 30118, 30120: delegations of authority at 49 CFR 1.95 and 501.8.

Jeffrey M. Giuseppe,
Director, Office of Vehicle Safety Compliance.

[FR Doc. 2015-26802 Filed 10-21-15; 8:45 am]

BILLING CODE 4910-59-P